DEPARTMENT OF COMMERCE

National Telecommunications and Information Administration

ConnectED Workshop

AGENCY: National Telecommunications and Information Administration, U.S. Department of Commerce.

ACTION: Notice of Open Meeting.

SUMMARY: The National Telecommunications and Information Administration (NTIA) will convene a meeting of stakeholders from the education, technology, and government sectors to share ideas, discuss policies, and consider promising strategies for achieving the President's goal of connecting virtually all K-12 students in the United States to next-generation broadband. This Notice announces that the ConnectED Workshop will be held on October 7, 2013.

DATES: The meeting will be held on October 7, 2013, from 12:30 p.m. to 5:00 p.m., Eastern Daylight Time.

ADDRESSES: The meeting will be held in the Gallery (located on the lobby level) of the American Institute of Architects headquarters, located at 1735 New York Avenue NW., Washington, DC 20006.

FOR FURTHER INFORMATION CONTACT: Joelle Tessler, Manager of Stakeholder Relations and Outreach, National Telecommunications and Information Administration, U.S. Department of Commerce, Room 4897, 1401 Constitution Avenue NW., Washington, DC 20230; telephone: (202) 482-4829; email: jtessler@ntia.doc.gov. Please direct media inquiries to NTIA's Office of Public Affairs, (202) 482-7002.

SUPPLEMENTARY INFORMATION: President Obama recently set an ambitious goal to connect practically all American students to ultra-fast broadband within five years. The President's ConnectED initiative would bring next-generation Internet speeds to K-12 schools across the nation. See ConnectED: President Obama's Plan for Connecting All Schools to the Digital Age, available at http://www.whitehouse.gov/sites/default/files/docs/connected_fact_sheet.pdf. The Federal Communications Commission (FCC) also recently launched a proceeding to overhaul and update the federal E-Rate program, which funds Internet access in schools and libraries. See In the Matter of Modernizing the E-rate Program for Schools and Libraries, WC Docket No. 13-184, Notice of Proposed Rule Making (rel. July 23, 2013). To help inform these efforts, NTIA will convene stakeholders from the education, technology, and government sectors to share ideas, discuss policies and consider the most promising strategies for equipping K-12 schools for digital learning.

The ConnectED Workshop will discuss the growing bandwidth needs of K-12 schools as more schools use mobile devices to enrich the learning experience; as teachers increasingly integrate Web video and other digital content into the curriculum; and as classroom management software tools move everything from homework assignments to testing into the cloud. The workshop will explore possible strategies to connect virtually all of our students to next-generation broadband in a timely, cost-effective way. It will also share promising practices, from NTIA's Broadband Technology Opportunities Program (BTOP) and State Broadband Initiative (SBI); the U.S. Department of Agriculture's Rural Utilities Service's Broadband Initiatives Program (BIP), Broadband Loan Program, Community Connect Program, and Distance Learning and Telemedicine Program; and the U.S. Department of Education.

The meeting will be open to the public and press. Due to the limited number of seats, attendance at the workshop will be on a first-come, first-served basis. Attendees may pre-register for the Workshop, but pre-registration does not guarantee the availability of seating. Information on how to pre-register for the meeting will be available on NTIA's Web site (www.ntia.doc.gov). NTIA will ask registrants to provide their first and last names and email addresses for both registration purposes and to receive any updates on the ConnectED Workshop.

The public meeting is physically accessible to people with disabilities. Individuals requiring accommodations, such as language interpretation or other ancillary aids, are asked to notify Jean Rice, at (202) 482-2614 or jrice@ntia.doc.gov, at least five (5) business days before the meeting.

The meeting will also be webcast. A webcast page will be published on NTIA's Web site (www.ntia.doc.gov) several days in advance of the meeting containing webcast instructions and other information. If you have technical questions regarding the webcast, please contact Charles Franz at cfranz@ntia.doc.gov.

Meeting updates and relevant documents will be also available on NTIA's Web site at http://www.ntia.doc.gov.

Dated: September 6, 2013.
Kathy Smith,
Chief Counsel, National Telecommunications and Information Administration.

[FR Doc. 2013-22087 Filed 9-10-13; 8:45 am]

BILLING CODE 3510-60-P